DEPARTMENT OF HOMELAND SECURITY

[Docket No. DHS-2007-0021]

United States Visitor and Immigrant Status Indicator Technology (US-VISIT); Privacy Act of 1974; Notice of Decommission of System of Records

AGENCY: United States Visitor and Immigrant Status Indicator Technology (US-VISIT), DHS.

ACTION: Notice of Decommission for System of Records.

SUMMARY: The Department of Homeland Security (DHS), US-VISIT Program, conducted a proof of concept (POC) for Increment 2C (70 FR 39300, US-VISIT Privacy Impact Assessment, July 7, 2005) to assess the capability of automatically, passively, and remotely recording the entry and exit of US-VISIT covered individuals at U.S. land border ports of entry (POEs) using Radio Frequency Identification (RFID)-enabled I-94 (Arrival/Departure) Forms. To support the US-VISIT Increment 2C POC, the Automated Identification Management System (AIDMS) was created to link the unique and individually-assigned RFID tag number to existing biographic information received from the Treasury Enforcement Communications System (TECS) and the entry and exit event information for each covered individual crossing the land border. The AIDMS maintained four general categories of records: traveler (i.e., covered individual) identification information, RFID tag related information, RFID tag read event information, and border crossing history information. The traveler identification information and the border crossing history information were duplicative of information stored in TECS and the Arrival/Departure Information System (ADIS). The RFID tag information was comprised of data collected about the issuance and status of the Form I-94 as well as data associated with the reading of an RFID tag. On November 7, 2006, US-VISIT concluded the Increment 2C POC. Upon completion of the estimated one year POC (as noted in the US-VISIT Notice published August 4, 2005, 70 FR 44934), AIDMS has been decommissioned because data is no longer being collected or stored in the system. All data previously stored in AIDMS will be deleted/destroyed 30 days after publication of this notice and in accordance with the National Archives and Records Administration (NARA) General Records Schedule (GRS) 20, Item 1.a. The AIDMS SORN was previously published in the Federal Register on July 5, 2005, at 70 FR 38700. A Privacy Impact Assessment regarding this decommission has been published at http://www.dhs.gov/privacy.

The purpose of this notice is to inform the public of the termination of AIDMS on June 25, 2007.

Disposition: In accordance with NARA GRS 20, Item 1.a, the data collected and stored in AIDMS will be deleted/destroyed 30 days after publication of this notice.

FOR FURTHER INFORMATION CONTACT: Steve Yonkers, Privacy Officer, US-VISIT Program, Department of Homeland Security, Washington, DC 20528; telephone 202-298-5200 (this is not a toll free number).

Dated: May 16, 2007.
Hugo Teufel III,
Chief Privacy Officer.

[FR Doc. E7-10085 Filed 5-24-07; 8:45 am]

BILLING CODE 4410-10-P